DEPARTMENT OF COMMERCE

National Oceanic and Atmospheric Administration

[I.D. 021105D]

International Whaling Commission; 57th Annual Meeting; Nominations

AGENCY: National Marine Fisheries Service (NMFS), National

Oceanic and Atmospheric Administration (NOAA), Commerce.

ACTION: Notice; request for nominations.

SUMMARY: This notice is a call for nominees for the U.S. Delegation to the June 2005 International Whaling Commission (IWC) annual meeting. The non-federal representative(s) selected as a result of this nomination process is(are) responsible for providing input and recommendations to the U.S. IWC Commissioner representing the positions of non-governmental organizations. Generally, only one non-governmental position is selected for the U.S. Delegation.

DATES: All written nominations for the U.S. Delegation to the IWC annual meeting must be received by April 22, 2005.

ADDRESSES: All nominations for the U.S. Delegation to the IWC annual meeting should be addressed to Rolland Schmitten, U.S. Commissioner to the IWC, and sent via post to: Cheri McCarty, 13708, Office of Protected Resources, National Marine Fisheries Service, 1315 East West Highway, Silver Spring, MD 20910. Prospective Congressional advisors to the delegation should contact the Department of State directly.

FOR FURTHER INFORMATION CONTACT: Cheri McCarty, 301-713-2322, ext. 114.

SUPPLEMENTARY INFORMATION: The Secretary of Commerce is charged with the responsibility of discharging the obligations of the United States under the International Convention for the Regulation of Whaling, 1946. The U.S. Commissioner has primary responsibility for the preparation and negotiation of U.S. positions on international issues concerning whaling and for all matters involving the IWC. He is staffed by the Department of Commerce and assisted by the Department of State, the Department of the Interior, the Marine Mammal Commission, and by other agencies. The non-federal representative(s) selected as a result of this nomination process is(are) responsible for providing input and recommendations to the U.S. IWC Commissioner representing the positions of non-governmental organizations. Generally, only one non-governmental position is selected for the U.S. Delegation.

The IWC is hosting its 57th annual meeting from June 20-24, 2005, in Ulsan, Korea.

Dated: March 18, 2005.
Laurie K. Allen,
Director, Office of Protected Resources, National Marine Fisheries Service.

[FR Doc. 05-5754 Filed 3-22-05; 8:45 am]

BILLING CODE 3510-22-S